DEPARTMENT OF TRANSPORTATION

Federal Motor Carrier Safety Administration

[Docket No. FMCSA-2025-0103]

Hours of Service of Drivers: Protein Transport of Indiana, L.L.C.; Application for Exemption

AGENCY: Federal Motor Carrier Safety Administration (FMCSA), Department of Transportation (DOT).

ACTION: Notice of final disposition; denial of application for exemption.

SUMMARY: FMCSA announces its decision to deny Protein Transport of Indiana, LLC's (Protein Transport) request for an exemption from the hours-of-service (HOS) regulations. FMCSA analyzed the application and public comments and determined that the exemption would not likely achieve a level of safety that is equivalent to, or greater than, the level that would be achieved absent such exemption.

FOR FURTHER INFORMATION CONTACT: Ms. Bernadette Walker, Driver and Carrier Operations Division; Office of Carrier, Driver and Vehicle Safety Standards, FMCSA; (202) 507-0363; or Bernadette.walker@dot.gov. If you have questions on viewing or submitting material to the docket, contact Dockets Operations at (202) 366-9826.

SUPPLEMENTARY INFORMATION:

I. Public Participation

Viewing Comments and Documents

To view any documents mentioned as being available in the docket, go to https://www.regulations.gov/docket/FMCSA-2025-0103/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analysis. The Agency must provide an opportunity for public comment on the request.

The Agency reviews the application, safety analyses and, public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

FMCSA prescribes HOS limits on commercial motor vehicle (CMV) driver on-duty and driving time, among other requirements, to reduce the possibility of driver fatigue. Congress created an exemption from the the HOS regulations for CMV drivers transporting agricultural commodities during planting and harvesting periods in each State. The statutory exemption was initially enacted in 1995 and subsequently revised (109 Stat. 568, 613, Nov. 28, 1995).

FMCSA codified the statutory exemption in 49 CFR 395.1(k), which provides that drivers are exempt from HOS requirements when transporting agricultural commodities, including livestock, and farm supplies for agricultural purposes, to a location within 150 air miles of the source of the exempt product during the harvest and planting seasons, as defined by each State. Once a driver operates beyond the 150 air-mile radius, the HOS regulations apply, except that livestock are also exempt from the HOS rules when transported within a 150 air-mile radius of the point of delivery of the livestock.

Under 49 CFR 395.2, agricultural commodities include horticultural products at risk of perishing or degrading in quality during transport and non-processed food, feed, fiber, or livestock. Livestock includes insects and all other living animals cultivated, grown, or raised for commercial purposes, including aquatic animals. Farm supplies for agricultural purposes include products directly related to the growing or harvesting of agricultulral commodities during the planting and harvesting seasons within each State, and livestock feed.

Applicant's Request

Protein Transport's application for exemption was described in detail in a Federal Register notice on July 1, 2025, (90 FR 28853) and will not be repeated as the facts have not changed.

IV. Public Comments

The Agency received three comments, all of which opposed the exemption, emphasizing the applicant's lack of fatigue management measures. AWM Associates noted that the exemption application did not address fatigue management. The Truck Safety Coalition said that the application “conspicuously lacks a single countermeasure that combats driver fatigue. Furthermore, its safety record is highly concerning and should give FMCSA tremendous pause.” Advocates for Highway and Auto Safety noted that truck driver fatigue is a serious safety issue and that Protein Transport failed to include “any additional procedures it will take beyond those already covered” by regulation.

V. FMCSA Decision

FMCSA evaluated Protein Transport's application and public comments and denies the exemption request. Congress created a statutory exemption from the HOS requirements for the transportation of agricultural commodities and farm supplies for agricultural purposes. The transportation of chicken products does not fall within the exemptions Congress established. Although such products may be included in animal feed, they are merely one such component and do not separately qualify as animal feed. In addition, as highlighted by the commenters, the exemption application contains no countermeasures to address driver fatigue. Protein Transport failed to establish that it would likely achieve a level of safety that is equivalent to, or greater than, the level that would be achieved without the exemption. In addition, FMCSA established the HOS rules following notice and comment rulemaking, based on research and data, to ensure the safe operation of CMVs on our nations' roadways. Accordingly, any exemption from the HOS regulations should be well supported to demonstrate why the exempted party would be able to achieve an equivalent or greater level of safety. To grant HOS exemptions without that level of confidence would be inconsistent with a primary goal of the HOS regulations to keep fatigued drivers off the public roadways and contrary to the statutory standard for an exemption. For the above reasons, the Protein Transport of Indiana, L.L.C. exemption application is denied.

Derek Barrs,
Administrator.

[FR Doc. 2025-21753 Filed 12-1-25; 8:45 am]

BILLING CODE 4910-EX-P